DEPARTMENT OF DEFENSE

Office of the Secretary

Proposed Collection; Comment Request

AGENCY: Office of the Director, Administration and Management.

ACTION: Notice.

In compliance with Section 3506(c)(2)(A) of the Paperwork Reduction Act of 1995, the Office of the Director, Administration and Management announces the proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 21, 2003.

ADDRESSES: Written comments and recommendations on the proposed information collection should be sent to The Office of the Director, Administration and Management/Quality Management Office, ATTN: Ms. Joyce Mussey, 1777 N. Kent St., Suite 14038, Arlington, VA 22209.

FOR FURTHER INFORMATION CONTACT: To request more information on this proposed information collection or to obtain a copy of the proposal and associated collection instruments, please write to the above address, or call Office of the Director, Administration and Management/Quality Management Office (703) 588-8142/8150.

Title and OMB Number: Interactive Customer Evaluation System; OMB Number 0704-420.

Needs and Uses: The Interactive Customer Evaluation System automates and minimizes the use of the current manual paper comment cards and other customer satisfaction collection medium, which exist at various customer service locations throughout the Department of Defense.

Affected Public: Individuals or Households; Business or Other For-Profit.

Annual Burden Hours: 165.

Number of Respondents: 3300.

Responses per Respondent: 1.

Average Burden per Response: 3 minutes.

Frequency: On occasion.

Supplementary Information:

Summary of Information Collection

Members of the public who respond on the Interactive Customer Evaluation system are authorized customers and have been provided a service through DoD customer service organizations. They have the opportunity to give automated feedback to the service provider on the quality of their experience and their satisfaction level. They also have the opportunity to provide any comments that might be beneficial in improving the process and in turn the service to the customer. This is a management tool for improving customer services.

Dated: February 12, 2003.
Patricia L. Toppings,
Alternate OSD Federal Register Liaison Officer, Department of Defense.

[FR Doc. 03-4069 Filed 2-19-03; 8:45 am]

BILLING CODE 5001-08-M